DEPARTMENT OF HOMELAND SECURITY

Coast Guard

33 CFR Part 110

[Docket No. USCG-2013-0018]

RIN 1625-AA01

Anchorage Regulations; Port of New York

AGENCY: Coast Guard, DHS.

ACTION: Final rule; correction.

SUMMARY: The Coast Guard published a final rule in the Federal Register on January 15, 2015, to establish and modify anchorage grounds within the Port of New York. One of the amendatory instructions for an existing regulation, which was intended to revise only paragraph (f)(2), mistakenly indicated that all of paragraph (f) was being revised. This rule corrects that error.

DATES: This rule is effective February 17, 2015.

FOR FURTHER INFORMATION CONTACT: If you have questions on this rule, call or email Mr. Jeff Yunker, Sector New York, Waterways Management Division, U.S. Coast Guard; telephone 718-354-4195, Email Jeff.M.Yunker@uscg.mil or Chief Craig Lapiejko, Coast Guard First District Waterways Management Branch, telephone 617-223-8385, Email Craig.D.Lapiejko@uscg.mil. If you have questions on viewing or submitting material to the docket, call Cheryl Collins, Program Manager, Docket Operations, telephone 202-366-9826.

SUPPLEMENTARY INFORMATION:

Viewing Documents Associated With This Rule

To view the final rule published on January 15, 2015 (80 FR 2011), or other documents in the docket for this rulemaking, go to http://www.regulations.gov, type the docket number in the “SEARCH” box and click “SEARCH.” Click on Open Docket Folder on the line associated with this rulemaking.

Background

On January 15, 2015, the Coast Guard published a final rule (80 FR 2011) to establish and modify anchorage grounds within the Port of New York. The rule becomes effective February 17, 2015. There was an error in an amendatory instruction in that rule and as reflected in 33 CFR 1.05-1(h), the Chief, Office of Regulations and Administrative Law (CG-0943), has authority to issue corrections to rules.

Need for Correction

In attempting to revise paragraph (f)(2) of 33 CFR 110.155, we mistakenly referred to paragraph (f) in amendatory instruction 2 on page 80 FR 2013 of that rule. This rule fixes that error by correcting the amendatory instruction.

Correction

In rule FR Doc. 2015-00465, published on January 15, 2015, (80 FR 2011), make the following correction:

On page 2013, in the second column, on line 9, correct the paragraph reference “(f)” to read “(f)(2)”.

Dated: January 15, 2015.
Katia Cervoni,
Chief, Office of Regulations and Administrative Law, U.S. Coast Guard.

[FR Doc. 2015-00922 Filed 1-21-15; 8:45 am]

BILLING CODE 9110-04-P